DEPARTMENT OF DEFENSE

Department of the Air Force

Notice of Record of Decision for the Environmental Impact Statement for SpaceX Starship-Super Heavy at Cape Canaveral Space Force Station, Florida

AGENCY: Department of the Air Force, Department of Defense.

ACTION: Notice of record of decision.

SUMMARY: On November 20, 2025, the Department of the Air Force (DAF) signed the Record of Decision (ROD) for the Environmental Impact Statement (EIS) for SpaceX Starship-Super Heavy at Cape Canaveral Space Force Station (CCSFS), FL.

FOR FURTHER INFORMATION CONTACT: Ms. Hilary Rummel, NEPA Project Manager, by email at hilary.rummel.ctr@us.af.mil or SLD 45 Public Affairs office by phone at 1-321-494-7732.

SUPPLEMENTARY INFORMATION: The DAF has decided to allow SpaceX to redevelop Space Launch Complex (SLC)-37 at CCSFS for Starship-Super Heavy launch and landing operations. Upon execution of the real property agreement and associated documentation, as analyzed in the Final EIS and while adhering to the mitigation measures identified, SpaceX is authorized to: (1) undertake construction activities necessary to redevelop SLC-37 and associated infrastructure for Starship-Super Heavy operations; (2) conduct prelaunch operations, including the transportation of launch vehicle components and static fire tests; and (3) conduct up to 76 launches and 152 landings annually, once a supplemental analysis of airspace impacts by the Federal Aviation Administration (FAA) is completed. The DAF will assess the airspace analysis conducted by the FAA and finalize a revised ROD prior to Starship-Super Heavy launches or landings occurring at CCSFS.

The DAF decision documented in the ROD was based on matters discussed in the Final EIS, inputs from the public and regulatory agencies, and other relevant factors. The Final EIS was made available to the public on November 26, 2025 through the project website (https://spaceforcestarshipeis.com/), and a Notice of Availability was published in the Federal Register (Volume 90, Number 232, Page 56145) on December 5, 2025.

Authority: 42 U.S.C. 4321, et seq. and Department of Defense National Environmental Policy Act Implementing Procedures.

Saleisia L. Kolstad,
Alternate Air Force Federal Register Liaison Officer.

[FR Doc. 2025-23314 Filed 12-17-25; 8:45 am]

BILLING CODE 3911-44-P